DEPARTMENT OF HEALTH AND HUMAN SERVICES

Health Resources and Services Administration

Advisory Committee; Notice of Meeting

In accordance with section 10(a)(2) of the Federal Advisory Committee Act, (Public Law 92-463), announcement is made of the following National Advisory body scheduled to meet during the month of August 2002.

Name: Advisory Committee on Interdisciplinary, Community-Based Linkages.

Date and Time: August 5, 2002; 8:30 a.m.-5 p.m., August 6, 2002; 8 a.m.-4:00 p.m.

Place: The Doubletree Hotel, 1750 Rockville Pike, Rockville, Maryland 20852.

The meeting is open to the public.

Agenda items will include, but not be limited to: Welcome; plenary discussion of the role of the grant programs under Title VII, Part D, Public Health Service Act in meeting Public Health Preparedness objectives; interdisciplinary training issues related to bioterrorism; reinforcement of community-based linkages; presentations by speakers representing: the Division of Health Careers Diversity and Development, Bureau of Health Professions, the Office of Minority Health, Health Resources and Services Administration; and the Office of Public Health Preparedness, Department of Health and Human Services; and Committee members. Meeting content will address preparation of the Committee's annual report to the Secretary and the Congress and the scheduling of topics for the next Committee meeting in October 2002.

Public comment will be permitted before lunch and at the end of the Committee meeting on August 5, 2002. Oral presentations will be limited to 5 minutes per public speaker. Persons interested in providing an oral presentation should submit a written request, with a copy of their presentation to: Bernice A. Parlak, Executive Secretary, Division of State, Community and Public Health, Bureau of Health Professions, Health Resources and Services Administration, Room 9-105, 5600 Fishers Lane, Rockville, Maryland 20857, Telephone (301) 443-1898.

Requests should contain the name, address, telephone number, and any business or professional affiliation of the person desiring to make an oral presentation. Groups having similar interests are requested to combine their comments and present them through a single representative. The Division of State, Community and Public Health will notify each presenter by mail or telephone of their assigned presentation time.

Persons who do not file an advance request for a presentation, but wish to make an oral statement may register to do so at the Doubletree Hotel, Rockville, Maryland, on August 5, 2002. These persons will be allocated time as the Committee meeting agenda permits.

Anyone requiring information regarding the Committee should contact Bernice A. Parlak, Division of State, Community and Public Health, Bureau of Health Professions, Health Resources and Services Administration, Room 9-105, 5600 Fishers Lane, Rockville, Maryland 20857, Telephone (301) 443-1898.

Proposed agenda items are subject to change as priorities dictate.

Dated: July 25, 2002.
Jane M. Harrison,
Director, Division of Policy Review and Coordination.

[FR Doc. 02-19301 Filed 7-29-02; 8:45 am]

BILLING CODE 4165-15-P